COMMODITY FUTURES TRADING COMMISSION

Agricultural Advisory Committee Meeting

This is to give notice, pursuant to Section 10(a) of the Federal Advisory Committee Act, 5 U.S.C. App. 2, § 10(a), that the Commodity Futures Trading Commission's Agricultural Advisory Committee will conduct a public meeting on March 28, 2001, in the first floor hearing room (Room 1000) of the Commission's Washington, D.C. headquarters, Three Lafayette Centre, 1155 21st Street, N.W., Washington, D.C. 20581. The meeting will begin at 1:30 p.m. and last until 5:00 p.m. The agenda will consist of the following:

Agenda

1. Welcoming remarks

2. The Commodity Futures Modernization Act of 2000 (CFMA) and proposed changes to CFTC regulations

3. “Special Procedures to Encourage and Facilitate Bona Fide Hedging by Agricultural Producers,” new Section 4p of the Commodity Exchange Act, as added by the CFMA

4. Review of agricultural trade options and other risk management alternatives in light of CFMA and proposed regulatory changes

5. Warehouse Act of 2000—implications for agricultural futures

6. Report on current activities by USDA's Risk Management Agency

7. Recent developments in electronic derivatives trading

8. Other business

The meeting is open to the public. The Chairman of the Advisory Committee, Commissioner David D. Spears, is empowered to conduct the meeting in a fashion that will, in his judgment, facilitate the orderly conduct of business. Any member of the public who wishes to file a written statement with the Advisory Committee should mail a copy of the statement to the attention of: The Agricultural Advisory Committee, c/o Commissioner David D. Spears, Commodity Futures Trading Commission,Three Lafayette Centre, 1155 21st Street, N.W., Washington, D.C. 20581, before the meeting. Members of the public who wish to make oral statements should inform Commissioner Spears in writing at the foregoing address at least three business days before the meeting. Reasonable provision will be made, if time permits, for an oral presentation of no more than five minutes each in duration.

Issued by the Commission in Washington, D.C. on March 7, 2001.
Jean A. Webb,
Secretary of the Commission.

[FR Doc. 01-6215 Filed 3-12-01; 8:45 am]

BILLING CODE 6351-01-M